POSTAL REGULATORY COMMISSION

[Docket No. A2011-6; Order No. 605]

Post Office Closing

AGENCY: Postal Regulatory Commission.

ACTION: Notice.

SUMMARY: This document informs the public that an appeal of the closing of the Holmes Mill (Kentucky) Post Office has been filed. It identifies preliminary steps and provides a procedural schedule. Publication of this document will allow the Postal Service, petitioner, and others to take appropriate action.

DATES: Administrative record due (from Postal Service): December 22, 2010; deadline for notices to intervene: January 4, 2011; and deadline for petitioner's Form 61 or initial brief: January 11, 2011 See the Procedural Schedule in the SUPPLEMENTARY INFORMATION section for other dates of interest.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at stephen.sharfman@prc.gov or 202-789-6820.

SUPPLEMENTARY INFORMATION: Notice is hereby given that, pursuant to 39 U.S.C. 404(d), on December 7, 2010, the Commission received a petition for review of the closing of the Holmes Mill Post Office in Holmes Mill, Kentucky. The petition, which was filed by Dovie Hamblin (Petitioner), is postmarked December 2, 2010, and was posted on the Commission's Web site December 8, 2010. The Commission hereby institutes a proceeding under 39 U.S.C. 404(d)(5) and designates the case as Docket No. A2011-6 to consider the Petitioner's appeal. If the Petitioner would like to further explain his or her position with supplemental information or facts, the Petitioner may either file a Participant Statement on PRC Form 61 or file a brief with the Commission by no later than January 11, 2011.

Categories of issues apparently raised. The categories of issues raised include: Failure to consider the effect on the community. See 39 U.S.C. 404(d)(2)(A)(i).

After the Postal Service files the administrative record and the Commission reviews it, the Commission may find that there are more legal issues than the one set forth above, or that the Postal Service's determination disposes of one or more of those issues. The deadline for the Postal Service to file the administrative record with the Commission is December 22, 2010. 39 CFR 3001.113.

Availability; Web site posting. The Commission has posted the appeal and supporting material on its Web site at http://www.prc.gov. Additional filings in this case and participants' submissions also will be posted on the Web site, if provided in electronic format or amenable to conversion, and not subject to a valid protective order. Information on how to use the Commission's Web site is available online or by contacting the Commission's webmaster via telephone at 202-789-6873 or via electronic mail at prc-webmaster@prc.gov.

The appeal and all related documents are also available for public inspection in the Commission's docket section. Docket section hours are 8 a.m. to 4:30 p.m., Monday through Friday, except on Federal government holidays. Docket section personnel may be contacted via electronic mail at prc-dockets@prc.gov or via telephone at 202-789-6846.

Filing of documents. All filings of documents in this case shall be made using the Internet (Filing Online) pursuant to Commission rules 9(a) and 10(a) at the Commission's Web site, http://www.prc.gov, unless a waiver is obtained. 39 CFR 3001.9(a) and 10(a). Instructions for obtaining an account to file documents online may be found on the Commission's Web site, http://www.prc.gov, or by contacting the Commission's docket section at prc-dockets@prc.gov or via telephone at 202-789-6846.

Intervention. Those, other than the Petitioner and respondent, wishing to be heard in this matter are directed to file a notice of intervention. See 39 CFR 3001.111. Notices of intervention in this case are to be filed on or before January 4, 2011. A notice of intervention shall be filed using the Internet (Filing Online) at the Commission's Web site, http://www.prc.gov, unless a waiver is obtained for hardcopy filing. See 39 CFR 3001.9(a) and 10(a).

Further procedures. By statute, the Commission is required to issue its decision within 120 days from the date it receives the appeal. See 39 U.S.C. 404(d)(5). A procedural schedule has been developed to accommodate this statutory deadline. In the interest of expedition, in light of the 120-day decision schedule, the Commission may request the Postal Service or other participants to submit information or memoranda of law on any appropriate issue. As required by the Commission rules, if any motions are filed, responses are due 7 days after any such motion is filed. See 39 CFR 3001.21.

It is ordered:

1. The Postal Service shall file the administrative record in this appeal, or otherwise file a responsive pleading to the appeal, by December 22, 2010.

2. The procedural schedule listed below is hereby adopted.

3. Pursuant to 39 U.S.C. 505, Katrina Martinez is designated officer of the Commission (Public Representative) to represent the interests of the general public.

4. The Secretary shall arrange for publication of this Notice and Order and Procedural Schedule in the Federal Register.

Procedural Schedule
December 7, 2010 | Filing of Appeal.
December 22, 2010 | Deadline for Postal Service to file administrative record in this appeal or responsive pleading.
January 4, 2011 | Deadline for notices to intervene (see 39 CFR 3001.111(b)).
January 11, 2010 | Deadline for Petitioner's Form 61 or initial brief in support of petition (see 39 CFR 3001.115(a) and (b)).
January 31, 2011 | Deadline for answering brief in support of Postal Service (see 39 CFR 3001.115(c)).
February 15, 2011 | Deadline for reply briefs in response to answering briefs (see 39 CFR 3001.115(d)).
February 22, 2011 | Deadline for motions by any party requesting oral argument; the Commission will schedule oral argument only when it is a necessary addition to the written filings (see 39 CFR 3001.116).
April 1, 2011 | Expiration of the Commission's 120-day decisional schedule (see 39 U.S.C. 404(d)(5)).

By the Commission.
Shoshana M. Grove,
Secretary.

[FR Doc. 2010-31554 Filed 12-15-10; 8:45 am]

BILLING CODE 7710-FW-P